DEPARTMENT OF ENERGY

Federal Energy Regulatory Commission

[Docket No. IC06-544-000; FERC-544]

Commission Information Collection Activities, Proposed Collection; Comment Request; Extension

March 10, 2006.

AGENCY: Federal Energy Regulatory Commission, DOE.

ACTION: Notice.

SUMMARY: In compliance with the requirements of section 3506(c)(2)(a) of the Paperwork Reduction Act of 1995 (Pub. L. 104-13), the Federal Energy Regulatory Commission (Commission) is soliciting public comment on the specific aspects of the information collection described below.

DATES: Comments on the collection of information are due May 19, 2006.

ADDRESSES: Copies of sample filings of the proposed collection of information can be obtained from the Commission's Web site (http://www.ferc.gov/docs-filings/elibrary.asp) or from the Federal Energy Regulatory Commission, Attn: Michael Miller, Office of the Executive Director, ED-34, 888 First Street NE., Washington, DC 20426. Comments may be filed either in paper format or electronically. Those parties filing electronically do not need to make a paper filing. For paper filing, the original and 14 copies of such comments should be submitted to the Office of the Secretary, Federal Energy Regulatory Commission, 888 First Street, NE., Washington, DC 20426 and refer to Docket No. IC06-544-000. Documents filed electronically via the Internet must be prepared in WordPerfect, MS Word, Portable Document Format, or ASCII format. To file the document, access the Commission's Web site at http://www.ferc.gov and click on “Make an E-filing”, and then follow the instructions for each screen. First time users will have to establish a user name and password. The Commission will send an automatic acknowledgement to the sender's e-mail address upon receipt of comments.

All comments may be viewed, printed or downloaded remotely via the Internet through FERC's homepage using the eLibrary link. For user assistance, contact FERCOlineSupport@ferc.gov or toll-free at (866) 208-3676. or for TTY, contact (202) 502-8659.

FOR FURTHER INFORMATION CONTACT: Michael Miller may be reached by telephone at (202) 502-8415, by fax at (202) 273-0873, and by e-mail at michael.miller@ferc.gov.

SUPPLEMENTARY INFORMATION: The information collected under the requirements of FERC-544 “Gas Pipeline Rates: Rate Change (Formal)”, (OMB No. 1902-0153) is used by the Commission to carry out its responsibilities in implementing the statutory Provisions of Sections 4, 5, and 16 of the Natural Gas Act (15 U.S.C. 717c-717o, Pub. L. 75-688). The Commission implements FERC-544 filing requirements in the Code of Federal Regulations (CFR) under 18 CFR part 154.

General rate change applications filed under section 4(e) of the Natural Gas Act reflect changes in rates based generally upon changes in the pipeline company's overall costs of providing service. Staff analyses are performed to determine whether the proposed rates and charges are consistent with the Commission's statutory responsibilities, policies, conditions. A preliminary review and report to the Commission of all changes filed under the NGA must be made by staff. Based upon the report, the Commission determines whether the filing should be accepted or suspended and set for hearing and investigation. 18 CFR 154.301-154.313 govern the filing requirements for rate changes and define the statements and schedules pipeline companies must file in support of their proposed rates and changes. 18 CFR 154.205 governs the filing requirements for changes relating to suspended tariffs, executed agreements or parts thereof. 18 CFR 154.206 permits the proposed change in rate, charge, classification or service to go into effect upon motion of the jurisdictional gas pipeline at the expiration of the suspension period or upon receipt of the motion, whichever is later.

Formal rate change filings (FERC-544) are suspended and set for hearing. When the NGA section 4(e) filing is suspended, the rate becomes the subject of a hearing process and may go into effect subject to refund with interest. All suspended filings that go through the hearing process are considered formal cases and an investigation is instituted to determine the reasonableness of the rate filing. If the rates and charges are deemed unjust, unreasonable or unduly discriminatory, the appropriate rate, charge or service condition is ascertained. The formal proceeding is terminated by the issuance of a final Commission order.

Action: The Commission is requesting a three-year extension of the current expiration date, with no changes to the existing collection of data.

Burden Statement: Public reporting burden for this collection is estimated as:

Number of respondents annually | Number of responses per respondent | Average burden hours per response | Total annual burden hours
(1) | (2) | (3) | (1)×(2)×(3)
11 | 1 | 4,583 | 50,413

Estimated cost burden to respondents is $248,486,990. (50,413 hours/2080 hours per year times $117,321 per year average per employee = $ 2,843,511). The cost per respondent is $258,501).

The reporting burden includes the total time, effort, or financial resources expended to generate, maintain, retain, disclose, or provide the information including: (1) Reviewing instructions; (2) developing, acquiring, installing, and utilizing technology and systems for the purposes of collecting, validating, verifying, processing, maintaining, disclosing and providing information; (3) adjusting the existing ways to comply with any previously applicable instructions and requirements; (4) training personnel to respond to a collection of information; (5) searching data sources; (6) completing and reviewing the collection of information; and (7) transmitting, or otherwise disclosing the information.

The estimate of cost for respondents is based upon salaries for professional and clerical support, as well as direct and indirect overhead costs. Direct costs include all costs directly attributable to providing this information, such as administrative costs and the cost for information technology. Indirect or overhead costs are costs incurred by an organization in support of its mission. These costs apply to activities, which benefit the whole organization rather than any one particular function or activity.

Comments are invited on: (1) Whether the proposed collection of information is necessary for the proper performance of the functions of the Commission, including whether the information will have practical utility; (2) the accuracy of the agency's estimate of the burden of the proposed collection of information, including the validity of the methodology and assumptions used; (3) ways to enhance the quality, utility and clarity of the information to be collected; and (4) ways to minimize the burden of the collection of information on those who are to respond, including the use of appropriate automated, electronic, mechanical, or other technological collection techniques or other forms of information technology e.g. permitting electronic submission of responses.

Magalie R. Salas,
Secretary.

[FR Doc. E6-3880 Filed 3-16-06; 8:45 am]

BILLING CODE 6717-01-P